DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification Eligibility To Apply for Trade Adjustment Assistance
[2/11/2017 through 3/7/2017]
Firm name | Firm address | Date accepted for investigation | Product(s)
Cooper Gear and Manufacturing, Inc | 310 Mill Street, Anderson, MO 64831 | 2/13/2017 | The firm manufactures gears and splines.
The Steinlite Corporation | 1015 Main Street, Atchison, KS 66002 | 2/23/2017 | The firm manufactures metal fabricated grain moisture meters (2 in production) and a metal mill to grind solids.
D & N Machining, Inc | 18320 Highway 71, South, Greenwood, AR 72936 | 2/24/2017 | The firm manufactures CNC machined component parts.
National Wiper Alliance, Inc | 875 Warren Wilson Road, Swannanoa, NC 28778 | 2/27/2017 | The firm manufactures nonwoven wipes and materials.
Bazooka-Farmstar, LLC | 800 East 7th Street, Washington, IA 52353 | 2/28/2017 | The firm farm manufactures machinery and equipment such as grain augers and manure injection equipment.

Any party having a substantial interest in these proceedings may request a public hearing on the matter. A written request for a hearing must be submitted to the Trade Adjustment Assistance for Firms Division, Room 71030, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Miriam Kearse,
Lead Program Analyst.

[FR Doc. 2017-04862 Filed 3-10-17; 8:45 am]

BILLING CODE 3510-WH-P